DEPARTMENT OF LABOR

Employment and Training Administration

[TA-W-60,311]

Techweld International, Inc., Troy, MI; Notice of Termination of Investigation

Pursuant to Section 221 of the Trade Act of 1974, as amended, an investigation was initiated on October 27, 2006 in response to a petition file on behalf of workers of Techweld International, Inc., Troy, Michigan.

The Department has been unable to locate company officials of the subject firm or to obtain the information necessary to reach a determination on worker group eligibility. Consequently, further investigation in this case would serve no purpose, and the investigation has been terminated.

Signed at Washington, DC this 21st day of November 2006.
Richard Church,
Certifying Officer, Division of Trade Adjustment Assistance.

[FR Doc. E6-20064 Filed 11-27-06; 8:45 am]

BILLING CODE 4510-30-P